DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 72, Number 73, page 19209, April 17, 2007 is amended to reflect changes to the structure and functional statements for the Office of Applied Studies (OAS). This amendment reflects the abolishment of the Division of Analysis, and also reflects OAS's increased responsibilities for performance data on State block grants (the State Outcome Measures and Monitoring System (SOMMS)). In addition, the title of the Division of Operations is replaced with the Division of Facility Surveys, and the functional statement of the Division of Populations Surveys, and the Office of the Director are also replaced. These changes will permit the OAS to increase its emphasis on: (1) The use of data sets to support SAMHSA's policy, planning, and program development; (2) customer service; and (3) the integration of analytic and data collection activities for each survey. The changes are as follows:

Section M.20, Functions is amended as follows:

The functional statements for the Office of Applied Studies (OAS), Office of the Director is replaced; Division of Analysis is abolished; Division of Operations is abolished and replaced with the Division of Facility Surveys; and the functional statement for the Division of Populations Surveys is replaced.

Office of Applied Studies (MC)

Office of the Director (MC-1)

(1) Provides overall leadership for the Office of Applied Studies; (2) determines that data collection and analytic activities are consistent with the mission and priorities of the Department and the Agency; (3) advises the Administrator and other Agency officials and staff on policy and technical issues associated with collecting information on substance abuse and mental health problems; (4) serves as Agency liaison to the Office of the Secretary, the Office of National Drug Control Policy, the Drug Enforcement Administration, and other Federal agencies; to State and local government agencies; and to non-governmental organizations and institutions on matters related to the collection and analysis of data on substance abuse and mental health problems; (5) manages SAMHSA responsibilities under the Paperwork Reduction Act, including the process for obtaining Office of Management and Budget clearance for information collection activities; and (6) manages the process for clearing, publishing, and disseminating studies and reports produced by OAS.

Division of Population Surveys (MCA)

(1) Plans, develops, and manages the National Survey on Drug Use and Health (NSDUH) and other surveys of the population to obtain information on substance abuse and mental health problems; (2) develops, implements, and evaluates new statistical and data collection methods, questionnaires, and sampling strategies for surveys; (3) analyzes information obtained from surveys conducted by the Office of Applied Studies to determine the incidence, prevalence, correlates, and consequences of substance abuse; (4) obtains and analyzes data from various sources to examine program and policy issues and evaluate the impact of various Federal initiatives related to substance abuse; (5) prepares statistical publications, special reports, and analyses based on information derived from the NSDUH and other surveys of the population; (6) serves as a source of expertise on substance abuse survey methods, sampling design, statistics, and analytic techniques for SAMHSA and the Department; and (7) determines the annual allotment of Block Grant funds to States and Territories for substance abuse prevention and treatment and mental health services, and provides information and expertise to SAMHSA, the Department, and the States on issues related to the formula in accordance with legislative authorities.

Division of Facility Surveys (MCD)

(1) Plans, develops, and manages the Drug Abuse Warning Network (DAWN) to obtain information on substance abuse-related morbidity and mortality; (2) plans, develops, and manages the Drug and Alcohol Services Information System (DASIS), and other data collection projects on admissions to and services provided by treatment programs in the United States; (3) prepares statistical publications and reports based on data obtained from DAWN, DASIS, and other sources; (4) analyzes data from facility surveys and other sources to study program and policy issues and evaluate the impact of various Federal initiatives related to substance abuse; (5) organizes and manages various meetings to share information and obtain advice and assistance from States with respect to the data collected from substance abuse treatment facilities; and (6) manages the compilation, analysis, and coordination of performance data on block grants to the States.

Delegation of Authority

All delegations and redelegations of authority to officers and employees of SAMHSA which were in effect immediately prior to the effective date of this reorganization shall continue to be in effect pending further redelegations, providing they are consistent with the reorganization.

These organizational changes are effective: September 24, 2007.

Terry L. Cline,
Administrator.

[FR Doc. 07-4773 Filed 9-27-07; 8:45 am]

BILLING CODE 4160-01-M